ENVIRONMENTAL PROTECTION AGENCY

[EPA-HQ-OAR-2022-0052, EPA-HQ-OAR-2022-0060, EPA-HQ-OAR-2022-0037, et al; FRL-12840-01-OAR]

Proposed Information Collection Request; Comment Request

AGENCY: Environmental Protection Agency (EPA).

ACTION: Notice.

SUMMARY: The U.S. Environmental Protection Agency (EPA) is planning to submit three information collection requests (ICRs), listed below, to the Office of Management and Budget (OMB) for review and approval in accordance with the Paperwork Reduction Act (PRA). Before doing so, the EPA is soliciting public comments on specific aspects of the proposed ICRs as described below. These are proposed extensions of currently approved ICRs. An Agency may not conduct or sponsor a collection of information unless it displays a currently valid OMB control number. Likewise, no person is required to respond to a collection of information unless it displays a currently valid OMB control number.

DATES: Comments must be submitted on or before August 18, 2025.

ADDRESSES: Submit your comments, referencing the Docket ID numbers provided for each item in the text, online using https://www.regulations.gov (our preferred method), by email to a-and-r-docket@epa.gov, or by mail to: EPA Docket Center, Environmental Protection Agency, Mail Code 28221T, 1200 Pennsylvania Ave. NW, Washington, DC 20460.

The EPA's policy is that all relevant comments received will be included in the public docket without change including any personal information provided, unless the comment includes profanity, threats, information claimed to be Confidential Business Information (CBI) or other information whose disclosure is restricted by statute.

FOR FURTHER INFORMATION CONTACT: Mr. Muntasir Ali, Sector Policies and Programs Division, (D243-05), Office of Air Quality Planning and Standards, U.S. Environmental Protection Agency, Research Triangle Park, North Carolina 27711; telephone number: (919)-541-0833; email address: Ali.Muntasir@epa.gov.

SUPPLEMENTARY INFORMATION: Supporting documents which explain in detail the information that the EPA will be collecting are available in the public docket for this ICR. The docket can be viewed online at https://www.regulations.gov/ or in person at the EPA Docket Center, WJC West Building, Room 3334, 1301 Constitution Ave. NW, Washington, DC. The telephone number for the Docket Center is 202-566-1744. For additional information about the EPA's public docket, visit https://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). The EPA will consider the comments received and amend the ICR as appropriate. The final ICR package will then be submitted to OMB for review and approval. At that time, the EPA will issue another Federal Register notice to announce the submission of the ICR to OMB and the opportunity to submit additional comments to OMB.

General Abstract: For all the listed ICRs in this notice, owners and operators of affected facilities are required to comply with reporting and record keeping requirements for the general provisions of 40 CFR part 60, subpart A or part 63, subpart A, as well as the applicable specific standards. This includes submitting initial notifications, performance tests and periodic reports and results, and maintaining records of the occurrence and duration of any startup, shutdown, or malfunction in the operation of an affected facility, or any period during which the monitoring system is inoperative. These reports are used by the EPA to determine compliance with the standards.

(1) Docket ID Number: EPA-HQ-OAR-2022-0052; NSPS for Incinerators (40 CFR part 60, subpart E) (Renewal); EPA ICR Number 1058.16; OMB Control Number 2060-0040; Expiration date September 30, 2025.

Respondents: Solid waste incineration units.

Respondent's obligation to respond: Mandatory (40 CFR part 60, subpart E).

Estimated number of respondents: 36.

Frequency of response: Annually.

Estimated Annual burden: 3,830 hours.

Estimated Annual cost: $462,000, includes $128,000 annualized capital or O&M costs.

Changes in Estimates: There is a total decrease in burden from the most-recently approved ICR is due to adjustments. The adjustment decrease in burden from the most-recently approved ICR is due to a decrease in the number of sources.

(2) Docket ID Number: EPA-HQ-OAR-2022-0060; NSPS for Stationary Gas Turbines (40 CFR part 60, subpart GG) (Renewal); EPA ICR Number 1071.17; OMB Control Number 2060-0028; Expiration date September 30, 2025.

Respondents: Stationary gas turbines.

Respondent's obligation to respond: Mandatory (40 CFR part 60, subpart GG).

Estimated number of respondents: 535.

Frequency of response: Semiannually.

Estimated Annual burden: 69,100 hours.

Estimated Annual cost: $8,290,000, includes no annualized capital or O&M costs.

Changes in Estimates: There is no projected change in burden from the previous ICR.

(3) Docket ID Number: EPA-HQ-OAR-2022-0037; NSPS for Stationary Combustion Turbines (40 CFR part 60, subpart KKKK) (Renewal); EPA ICR Number 2177.10; OMB Control Number 2060-0582; Expiration date October 31, 2025.

Respondents: Stationary combustion turbine facilities.

Respondent's obligation to respond: Mandatory (40 CFR part 60, subpart KKKK).

Estimated number of respondents: 871.

Frequency of response: Initially, semiannually.

Estimated Annual burden: 90,300 hours.

Estimated Annual cost: $10,800,000, includes no annualized capital or O&M costs.

Changes in Estimates: There is a projected increase in burden due to an increase in the number of sources subject to the regulation.

Penny Lassiter,
Director, Sector Policies and Programs Division.

[FR Doc. 2025-11129 Filed 6-16-25; 8:45 am]

BILLING CODE 6560-50-P